DEPARTMENT OF ENERGY

Federal Energy Regulatory Commission

Combined Notice of Filings #1

Take notice that the Commission received the following electric corporate filings:

Docket Numbers:EC23-26-000.

Applicants: EdSan 1B Group 1 Edwards, LLC, EdSan 1B Group 1 Sanborn, LLC, EdSan 1B Group 2, LLC, EdSan 1B Group 3, LLC, Daylight I, LLC, Edwards Solar Line I, LLC, Sanborn Solar Line I, LLC, Axium ES Holdings LLC.

Description: Amendment to November 10, 2022, Joint Application for Authorization Under Section 203 of the Federal Power Act of EdSan 1B Group 1 Edwards, LLC, et al.

Filed Date: 11/25/22.

Accession Number: 20221125-5048.

Comment Date: 5 p.m. ET 12/27/22.

Take notice that the Commission received the following electric rate filings:

Docket Numbers:ER23-476-001,

Applicants: Great Pathfinder Wind, LLC.

Description: Tariff Amendment: Affidavit of Adrian Kimbrough to be effective 2/1/2023.

Filed Date: 11/28/22.

Accession Number: 20221128-5090.

Comment Date:5 p.m. ET 12/19/22.

Docket Numbers: ER23-497-000.

Applicants: PJM Interconnection, L.L.C.

Description: § 205(d) Rate Filing: Original NSA, Service Agreement No. 6707; Queue No. AD1-152 to be effective 10/31/2022.

Filed Date: 11/28/22.

Accession Number: 20221128-5018.

Comment Date:5 p.m. ET 12/19/22.

Docket Numbers: ER23-498-000.

Applicants: California Independent System Operator Corporation.

Description: Notice of Termination of Scheduling Coordinator Agreement with Bia Capital Management LLC and Request for Waiver of Notice Requirement of California Independent System Operator Corporation.

Filed Date: 11/23/22.

Accession Number: 20221123-5232.

Comment Date:5 p.m. ET 12/14/22.

Docket Numbers: ER23-499-000.

Applicants: Avista Corporation.

Description: § 205(d) Rate Filing: Avista Corp FERC Rate Schedule T1188 Extension to be effective 1/1/2023.

Filed Date: 11/28/22.

Accession Number: 20221128-5039.

Comment Date: 5 p.m. ET 12/19/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 28, 2022.
Debbie-Anne A. Reese,
Deputy Secretary.

[FR Doc. 2022-26263 Filed 12-1-22; 8:45 am]

BILLING CODE 6717-01-P